DEPARTMENT OF HOMELAND SECURITY

Coast Guard

33 CFR Part 165

[Docket No. USCG-2012-0381]

Safety Zones; Recurring Events in Captain of the Port New York Zone

AGENCY: Coast Guard, DHS.

ACTION: Notice of enforcement of regulation.

SUMMARY: The Coast Guard will enforce various safety zones in the Sector New York area of responsibility on various dates and times. This action is necessary to ensure the safety of vessels and spectators from hazards associated with fireworks displays. During the enforcement period, no person or vessel may enter the safety zone without permission of the Captain of the Port (COTP).

DATES: The regulations for the safety zones described in 33 CFR 165.160 will be enforced on the dates and times listed in the table below.

FOR FURTHER INFORMATION CONTACT: If you have questions on this notice, call or email Ensign Kimberly Farnsworth, Coast Guard; telephone 718-354-4163, email Kimberly.A.Farnsworth@uscg.mil.

SUPPLEMENTARY INFORMATION: The Coast Guard will enforce the safety zone listed in 33 CFR 165.160 on the specified dates and times as indicated in Table 1 below. If the event is delayed by inclement weather, the regulation will be enforced on the rain date indicated in Table 1 below. These regulations were published in the Federal Register on November 9, 2011 (76 FR 69614).

Table 1
1. Intrepid Air and Sea Museum Fireworks (update), Pier 84 Hudson River Safety Zone, 33 CFR 165.160(5.9) | • Launch site: A barge located in approximate position 40°45′56.9″ N, 074°00′25.4″ W (NAD 1983), approximately 380 yards west of Pier 84, Manhattan, New York.
| • Date: May 23, 2012
| • Rain Date: May 24, 2012
| • Time: 9:30 p.m.-10:42 p.m.
2. Midland Beach Sea Turtle Fireworks, Midland Beach Safety Zone, Staten Island, 33 CFR 165.160(2.11) | • Launch site: A barge located in approximate position 40°34′12″ N, 074°04′29.6″ W (NAD 1983), approximately 800 yards southeast of the Midland Beach.
| • Date: June 16, 2012
| • Rain Date: June 17, 2012
| • Time: 8:30 p.m.-9:48 p.m.
3. Wolfe's Pond Park, Wofle's Pond Park Safety Zone, Staten Island, 33 CFR 165.160(5.2) | • Launch site: A barge located in approximate position 40°30′52.1″ N, 074°10′58.8″ W (NAD 1983), approximately 540 yards east of Wolfe's Pond Park, Staten Island, New York.
| • Date: June 30, 2012
| • Rain Date: July 1, 2012
| • Time: 8:30 p.m.-9:48 p.m.
4. Fort Hamilton Independence Day, Fort Hamilton Safety Zone, 33 CFR 165.160(2.14) | • Launch site: A barge located in approximate position 40°36′00″ N, 074°01′42.5″ W (NAD 1983), approximately 1400 yards southeast of the Verrazano-Narrows Bridge.
| • Date: July 1, 2012
| • Rain Date: July 2, 2012
| • Time: 9:15 p.m.-10:35 p.m.

Under the provisions of 33 CFR 165.160, a vessel may not enter the regulated area unless given express permission from the COTP or the designated representative. Spectator vessels may transit outside the regulated area but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts. If the COTP determines that the regulated area need not be enforced for the full duration stated in this notice, a Broadcast Notice to Mariners may be used to grant general permission to enter the regulated area.

Dated: May 11, 2012.
G.P. Hitchen,
Captain, U.S. Coast Guard, Acting Captain of the Port New York.

[FR Doc. 2012-14217 Filed 6-11-12; 8:45 am]

BILLING CODE 9110-04-P